NATIONAL AERONAUTICS AND SPACE ADMINISTRATION

[Notice (02-075)]

National Environmental Policy Act; Final Environmental Assessment for Launch of NASA Routine Payloads on Expendable Launch Vehicles from Cape Canaveral Air Force Station Florida and Vandenberg Air Force Base California

Correction

In notice document 02-15348 beginning on page 41525 in the issue of Tuesday, June 18, 2002, make the following correction:

On page 41525, in the third column, in the fourth through seventh lines, the web address should read, “http://spacescience.nasa.gov/admin/pubs/routine_EA/index.htm”.

[FR Doc. C2-15348 Filed 6-25-02; 8:45 am]

BILLING CODE 1505-01-D